DEPARTMENT OF LABOR

Employment and Training Administration

[TA-W-73,310]

Optera, Inc. Formerly Known as Donnelly Corporation/Magna Donnelly Including On-Site Leased Workers From Manpower and Key Personnel Holland, Michigan; Amended Certification Regarding Eligibility To Apply for Worker Adjustment Assistance

In accordance with Section 223 of the Trade Act of 1974, as amended (“Act”), 19 U.S.C. 2273, the Department of Labor issued a Certification of Eligibility to Apply for Worker Adjustment Assistance on February 26, 2010, applicable to workers of Optera, Inc., including on-site leased workers from Manpower and Key Personnel, Holland, Michigan. The notice was published in the Federal Register on April 23, 2010 (75 FR 21361).

At the request of the State Agency, the Department reviewed the certification for workers of the subject firm. The workers are engaged in the production of touch screen sensors.

New information shows that Optera, Inc. was formerly known as Donnelly Corporation/Magna Donnelly. Some workers separated from employment at Optera, Inc. had their wages reported under a separate unemployment insurance (UI) tax account under the name Donnelly Corporation/Magna Donnelly.

Accordingly, the Department is amending this certification to properly reflect this matter.

The intent of the Department's certification is to include all workers of the subject firm who were adversely affected by a shift in the production of touch screen sensors to China.

The amended notice applicable to TA-W-73,310 is hereby issued as follows:

All workers of Optera, Inc., formerly known as Donnelly Corporation/Magna Donnelly, including on-site leased workers from Manpower and Key Personnel, Holland, Michigan, who became totally or partially separated from employment on or after January 18, 2009, through February 26, 2012, and all workers in the group threatened with total or partial separation from employment on date of certification through two years from the date of certification, are eligible to apply for adjustment assistance under Chapter 2 of Title II of the Trade Act of 1974, as amended.

Signed in Washington, DC, this 18th day of November 2010.
Del Min Amy Chen,
Certifying Officer, Division of Trade Adjustment Assistance.

[FR Doc. 2010-30547 Filed 12-6-10; 8:45 am]

BILLING CODE 4510-FN-P